DEPARTMENT OF ENERGY

Federal Energy Regulatory Commission

[Docket No. EL01-93-005, et al.]

Mirant Americas Energy Marketing, L.P., et al.; Electric Rate and Corporate Regulation Filings

March 5, 2002.

Take notice that the following filings have been made with the Commission. Any comments should be submitted in accordance with Standard Paragraph E at the end of this notice.

1. Mirant Americas Energy Marketing, L.P.; Mirant New England, LLC; Mirant Kendall, LLC; and Mirant Canal, LLC v. ISO New England Inc.

[Docket No. EL01-93-005]

Take notice that on February 25, 2002, ISO New England Inc. tendered for filing with the Federal Energy Regulatory Commission (Commission) its compliance filing in response to the Commission's October 26, 2001 Order in the above-referenced proceeding.

Copies of said filing have been served upon all parties to this proceeding, NEPOOL Participants, and all non-Participant entities that are customers under the NEPOOL Open Access Transmission Tariff, as well as upon the utility regulatory agencies of the six New England States.

Comment Date: March 27, 2002.

2. Arizona Public Service Company

[Docket No. ER02-1174-000]

Take notice that on February 28, 2002, Arizona Public Service Company (APS) tendered for filing a revised Contract Demand Exhibit for Southern California Edison (SCE) applicable under the APS-FERC Rate Schedule No. 120.

Copies of this filing have been served on SCE, the California Public Utilities Commission and the Arizona Corporation Commission.

Comment Date: March 21, 2002.

3. San Diego Gas & Electric Company

[Docket No. ER02-1180-000]

Take notice that on February 28, 2002, San Diego Gas & Electric Company (SDG&E) tendered for filing its Service Agreements numbers 13 and 14 to its FERC Electric Tariff, First Revised Volume No. 6, two interconnection agreements. Both agreements relate to the interconnection of new generation plants to be owned by Energia Azteca X, S. de R.L. de C.V. and Energia de Baja California, S. de R.L. de C.V. The plants, with a capacity of 685 megawatts, are being constructed on an expedited basis to meet electricity demand in the Western United States, Baja California, Mexico, and the San Diego Basin. They will be located near Mexicali, Mexico, and are expected to begin service on or about July 1, 2002.

Service Agreement No. 13 is an Expedited Interconnection Facilities Agreement dated February 1, 2002 between SDG&E and Baja California Power, Inc., under which SDG&E will construct, operate and maintain the proposed interconnection facilities. Service Agreement No. 14, the Interconnection Agreement between SDG&E and Baja California Power, Inc., dated February 1, 2002, establishes interconnection and operating responsibilities and associated communications procedures between the parties. SDG&E requests an effective date of May 15, 2002 for both agreements.

SDG&E states that copies of the filing have been served on Baja California Power, Inc., and on the California Public Utilities Commission.

Comment Date: March 21, 2002.

4. Nevada Power Company

[Docket Nos. ER01-2754-003, ER01-2755-003, ER01-2758-003, and ER01-2759-003]

Take notice that on February 27, 2002, Nevada Power Company (Nevada Power) filed, pursuant to Section 205 of the Federal Power Act and the Federal Energy Regulatory Commission's (Commission) Orders dated December 20, 2001 and February 21, 2002 in the above-referenced proceedings, transmission service agreements that have been revised in accordance with the Commission's December 20, 2001 Order.

Comment Date: March 20, 2002.

5. PJM Interconnection, L.L.C.

[Docket No. ER02-1171-000]

Take notice that on February 28, 2002, PJM Interconnection, L.L.C. (PJM), tendered for filing executed service agreements for firm point-to-point transmission service, non-firm point-to-point transmission service, and network integration transmission service for Rockland Electric Company.

PJM requested a waiver of the Commission's notice requirement to permit a March 1, 2002 effective date for the agreements.

Copies of this filing were served upon Rockland Electric Company and the state commissions within the PJM region.

Comment Date: March 21, 2002.

6. International Transmission Company

[Docket No. ER02-1172-000]

Take notice that on February 28, 2002, International Transmission Co., (International Transmission) pursuant to Section 205 of the Federal Power Act, submitted for filing with the Federal Energy Regulatory Commission (Commission) agreements for the provision of non-discriminatory transmission service under the joint open access transmission tariff (JOATT) between International Transmission and Michigan Electric Transmission Company (METC).

Comment Date: March 21, 2002.

7. Front Range Power Company, LLC

[Docket No. ER02-1173-000]

Take notice that on February 28, 2002, Front Range Power Company, LLC (FRPC), a Colorado limited liability company, applied to the Federal Energy Regulatory Commission (Commission) for acceptance of Front Range Power Company, LLC, Electric Tariff, Original Volume No. 1; the granting of certain blanket approvals, including the authority to sell electricity at market-based rates; the waiver of certain Commission regulations; and the waiver of certain notice requirements. The application also asks the Commission to accept for filing service agreements with Public Service Company of Colorado and Colorado Springs Utilities.

Comment Date: March 21, 2002.

8. Arizona Public Service Company

[Docket No. ER02-1174-000]

Take notice that on February 28, 2002, Arizona Public Service Company (APS) tendered for filing a revised Contract Demand Exhibit for Southern California Edison (SCE) applicable under the APS-FERC Rate Schedule No. 120.

Copies of this filing have been served on SCE, the California Public Utilities Commission and the Arizona Corporation Commission.

Comment Date: March 21, 2002.

9. Aroostook Valley Electric Company

[Docket No. ER02-1175-000]

Take notice that on February 28, 2002, Aroostook Valley Electric Company, tendered for filing a notice of succession and amendments to an existing market-based rate tariff to reflect the name change from Aroostook Valley Electric Company, which owns a 31 MW wood-burning power plant in Fort Fairfield, Maine, to Boralex Fort Fairfield Inc. and to remove language from the tariff to comply with Calhoun Power Company I, LLC, 96 FERC ¶ 61,056 (2001).

Comment Date: March 21, 2002.

10. American Electric Power Service Corporation

[Docket No. ER02-1176-000]

Take notice that on February 28, 2002, the American Electric Power Service Corporation (AEPSC), tendered for filing Firm and Non-Firm Point-to-Point Transmission (PTP) Service Agreements for Dominion Energy Marketing, Inc, Progress Ventures, Inc., and Wisconsin Public Service Corporation, a revised Network Integration Service Agreement for Wabash Valley Power Association, Inc., and a Long-Term Firm PTP Service Agreement Specification for AEPSC's Power Marketing Organization. These agreements are pursuant to the AEP Companies' Open Access Transmission Service Tariff that has been designated as the Operating Companies of the American Electric Power System FERC Electric Tariff Second Revised Volume No. 6.

AEPSC requests waiver of notice to permit the Service Agreements to be made effective on and after February 1, 2002. A copy of the filing was served upon the Parties and the state utility regulatory commissions of Arkansas, Indiana, Kentucky, Louisiana, Michigan, Ohio, Oklahoma, Tennessee, Texas, Virginia and West Virginia.

Comment Date: March 21, 2002.

11. Tampa Electric Company

[Docket No. ER02-1177-000]

Take notice that on February 28, 2002, Tampa Electric Company (TEC) tendered for filing pursuant to section 205 of the Federal Power Act an executed Interconnection and Operating Agreement between TEC and Auburndale Peaker Energy Center, L.L.C. as a service agreement under TEC's open access transmission tariff.

Comment Date: March 21, 2002.

12. Ocean State Power II

[Docket No. ER02-1178-000]

Take notice that on February 28, 2002, Ocean State Power II (Ocean State II), tendered for filing revised pages to Rate Schedule FERC Nos. 5-8, which update Ocean State II's rate of return on equity (ROE) with respect to such rate schedules.

Ocean State II requests an effective date of April 29, 2002. Copies of the Supplements have been served upon, among others, Ocean State II's power purchasers, the Massachusetts Department of Public Utilities, and the Rhode Island Public Utilities Commission.

Comment Date: March 21, 2002.

13. Ameren Services Company

[Docket No. ER02-1181-000]

Take notice that on February 28, 2002, Ameren Services Company (Ameren Services) tendered for filing a Service Agreement for Network Integration Transmission Service and a Network Operating Agreement between Ameren Services and MidAmerican Energy Company. Ameren Services asserts that the purpose of the Agreements is to permit Ameren Services to provide transmission service to MidAmerican Energy Company pursuant to Ameren's Open Access Tariff.

Comment Date: March 21, 2002.

14. Niagara Mohawk Power Corporation

[Docket No. ER02-1182-000]

Take notice that on February 28, 2002, Niagara Mohawk Power Corporation, a National Grid Company (Niagara Mohawk) tendered for filing its Rate Schedule No. 314 with the City of Jamestown Board of Public Utilities (Jamestown).

Copies of the filing have been served on counsel for Jamestown, the Power Authority of the State of New York, the New York Independent System Operator, Inc. and the New York State Public Service Commission.

Comment Date: March 21, 2002.

15. Commonwealth Edison Company

[Docket No. ER02-1183-000]

Take notice that on February 28, 2002, Commonwealth Edison Company (ComEd) submitted for filing an unexecuted Service Agreement for Short-Term Firm Point-to-Point Transmission Service (Service Agreement) and the associated unexecuted Dynamic Scheduling Agreement (DSA) with Exelon Generation Company, LLC (Exelon) under ComEd's Open Access Transmission Tariff (OATT).

ComEd requests an effective date of March 1, 2002, and accordingly, requests waiver of the Commission's notice requirements. A copy of this filing was served on Exelon and ORMET Corporation.

Comment Date: March 21, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-5855 Filed 3-11-02; 8:45 am]

BILLING CODE 6717-01-P